DEPARTMENT OF COMMERCE

Foreign-Trade Zones Board

[B-55-2015]

Foreign-Trade Zone 50—Long Beach, California; Application for Expansion of Subzone 50H; Tesoro Refining and Marketing Company, LLC

An application has been submitted to the Foreign-Trade Zones (FTZ) Board by the Port of Long Beach, California, grantee of FTZ 50, requesting the expansion of Subzone 50H located at the facilities of Tesoro Refining and Marketing Company, LLC, in Long Beach, California. The application was submitted pursuant to the provisions of the Foreign-Trade Zones Act, as amended (19 U.S.C. 81a-81u), and the regulations of the FTZ Board (15 CFR part 400). It was formally docketed on August 18, 2015.

The grantee proposes to expand Subzone 50H to include an additional 5.02 acres. The additional acreage is located at 1600 Pier C Street in Long Beach. No changes to the subzone's existing production authority have been requested at this time.

In accordance with the FTZ Board's regulations, Christopher Kemp of the FTZ Staff is designated examiner to review the application and make recommendations to the FTZ Board.

Public comment is invited from interested parties. Submissions shall be addressed to the FTZ Board's Executive Secretary at the address below. The closing period for their receipt is October 5, 2015. Rebuttal comments in response to material submitted during the foregoing period may be submitted during the subsequent 15-day period to October 19, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at christopher.kemp@trade.gov or (202) 482-0862.

Dated: August 18, 2015.
Andrew McGilvray,
Executive Secretary.

[FR Doc. 2015-20883 Filed 8-21-15; 8:45 am]

BILLING CODE P